COMMISSION ON CIVIL RIGHTS

Sunshine Act Meeting

Agency: U.S. Commission on Civil Rights.

Date and Time: Friday, January 9, 2004, 9:30 a.m.

Place: U.S. Commission on Civil Rights, 624 9th Street, NW., room 540, Washington, DC 20425.

Status:

Agenda

I. Approval of Agenda

II. Approval of Minutes of December 12, 2003 Meeting

III. Announcements

IV. Staff Director's Report

V. State Advisory Committee Report: Coping with Police Misconduct in West Virginia (West Virginia)

VI. Program Planning

VII. Future Agenda Items

FOR FURTHER INFORMATION CONTACT: Les Jin, Press and Communications (202) 376-7700.

Debra A. Carr,
Deputy General Counsel.

[FR Doc. 03-32339 Filed 12-31-03; 3:36 pm]

BILLING CODE 6335-01-M